DEPARTMENT OF ENERGY

Federal Energy Regulatory Commission

[Docket No. IC16-4-000]

Commission Information Collection Activities (Ferc-500, Ferc-542); Consolidated Comment Request; Extension

AGENCY: Federal Energy Regulatory Commission.

ACTION: Notice of information collections and request for comments.

SUMMARY: In compliance with the requirements of the Paperwork Reduction Act of 1995, 44 U.S.C. 3506(c)(2)(A), the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due February 19, 2016.

ADDRESSES: You may submit comments (identified by Docket No. IC16-4-000) by either of the following methods:

• eFiling at Commission's Web site: http://www.ferc.gov/docs-filing/efiling.asp

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-500, [Application for License/Relicense and Exemption for Water Projects With More Than 5 Megawatt ² Capacity]

² Megawatt = MW.

OMB Control No.: 1902-0058.

Abstract: Pursuant to the Federal Power Act, the Commission is authorized to issue licenses and exemptions to citizens of the United States, or to any corporation organized under the laws of United States or any State thereof, or to any State or municipality for the purpose of constructing, operating, and maintaining dams, water conduits, reservoirs, power houses, transmission lines, or other project works necessary or convenient for the development and improvement of navigation and for the development, transmission, and utilization of power across, along, from, or in any of the streams or other bodies of water over which Congress has jurisdiction under its authority to regulate commerce with foreign nations and among the several States, or upon any part of the public lands and reservations of the United States.

FERC-500 is an application (for water projects with more than 5 megawatt capacity) for a hydropower license or exemption. FERC-500 includes certain reporting requirements in 18 CFR 4, 5, 8, 16, 141, 154.15, and 292. Depending on the type of application, it may include project description, schedule, resource allocation, project operation, construction schedule, cost, and financing; and an environmental report.

After an application is filed, the Federal agencies with responsibilities under the Federal Power Act (FPA) and other statutes,³ the States, Indian tribes, and other participants have opportunities to request additional studies and provide comments and recommendations.

³ Statutes include the Electric Consumers Protection Act (ECPA), the National Environmental Policy Act (NEPA), the Endangered Species Act, the Federal Water Pollution Control Amendments of 1972 (the Clean Water Act), and the Coastal Zone Management Act.

Submittal of the FERC-500 application is necessary to fulfill the requirements of the FPA in order for the Commission to make the required finding that the proposal is economically, technically, and environmentally sound, and is best adapted to a comprehensive plan for improving/developing a waterway or waterways.

Type of Respondent: Applicants for major hydropower licenses or exemptions greater than 5 MW

Estimate of Annual Burden: Applicants for licenses are required to include an estimate of their cost to prepare the license application, which would include nearly all of the reporting requirements in FERC-500.⁴ Because the requirements for an exemption application are largely the same as that of a license application, the license application costs are a good estimate of the exemption application costs and of the overall burden of preparing license and exemption applications for projects greater than 5 MW. To estimate the total annual burden, we averaged the reported license application costs for proposed projects greater than 5 MW filed in fiscal years (FY) 2012 through 2015. The results are presented in the table below:

⁴ Exceptions would be 18 CFR 2.19, 4.201, 4.202, 4.303, 4.35, 8.1, 8.2, 16.19, 141.15, and 292.208, none of which directly relate to preparation of a license or exemption application for a project greater than 5 MW.

FERC-500 (Application for License/Relicense and Exemption for Water Projects with More than 5 MW Capacity)
Fiscal Year | 2012 | 2013 | 2014 | 2015
Number of Applications (Responses) | 9 | 7 | 15 | 2
Average Cost per Response | $2,059,828 | $1,234,987 | $3,776,864 | $500,000
Total Burden Cost | $18,538,451 | $8,644,909 | $56,652,960 | $1,000,000

The average burden cost per application over the period FY 2012 through FY 2015 was approximately $2,570,797.⁵ We estimate a cost (salary plus benefits) of $72/hour.⁶ Using this hourly cost estimate, the average burden for each application filed from FY 2012 to FY 2015 is 35,706 hours.

⁵ $84,836,320 (Total burden cost from 2012-2015) ÷ 33 (total number of applications received from 2012-2015) = $2,570,797.

⁶ FERC staff estimates that industry is similarly situated in terms of the hourly cost for salary plus benefits. Therefore, we are using the FERC FY 2015 hourly cost (salary plus benefits) of $72/hour.

FERC-500
Number of respondents | Annual number of responses per respondent | Total number of responses | Average burden hours and cost per response | Total annual burden hours and total annual cost | Cost per respondent ($)
(1) | (2) | (1)*(2)=(3) | (4) | (3)*(4)=(5) | (5)÷(1)
9 | 1 | 9 | 35,705.52 | 321,349.68 | $2,570,797.42
|  |  | $2,570,797.42 | $23,137,176.82

FERC-542, [Gas Pipeline Rates: Rate Tracking]

OMB Control No.: 1902-0070

Abstract: Commission regulations at 18 CFR 154.402 establish requirements for natural gas pipelines that choose to recover Commission-assessed annual charges through an annual charge adjustment (ACA) clause. All natural gas pipelines subject to FERC jurisdiction must have a clause in their tariff that incorporates the Commission-authorized annual charge unit rate by reference to that rate, as published on the Commission's Web site located at http://www.ferc.gov.

This reporting requirements results from the Commission's being required to “assess and collect fees and annual charges in any fiscal year in amounts equal to all of the costs incurred by the Commission in that fiscal year.” ⁷ To accomplish this, the Commission created the annual charges program, which is designed to recover the costs of administering the natural gas, oil, and electric programs by calculating the costs of each program, net of filing fees, and properly allocating them among the three programs.⁸

⁷ See Omnibus Budget Reconciliation Act, Pub. L. 99-509, Title III, Subtitle E, § 3401, 1986 U.S. Code Cong. & Ad. News (100 Stat.) 1874, 1890-91 (codified at 42 U.S.C. 7178 (2012)).

⁸ Annual Charges Under the Omnibus Budget Reconciliation Act of 1986, Order No. 472, FERC Stats & Regs. ¶ 30,746, clarified by, Order No. 472-A, FERC Stats. & Regs. ¶ 30,750, order on reh'g, Order No. 472-B, FERC Stats. & Regs. ¶ 30,767 (1987), order on reh'g, Order No. 472-C, 42 FERC ¶ 61,013 (1988).

This reporting requirement applies only to the recovery of annual charges assessed to entities in the natural gas program.

The provisions governing the assessment of annual charges are codified in Part 382 of the Commission's regulations.⁹ In brief, after the Commission calculates the costs of administering the natural gas regulatory program,¹⁰ it assesses those costs to natural gas pipeline companies (Pipelines).¹¹ Each Pipeline is assessed a proportional share of the Commission's costs of administering the natural gas program. That proportional share is based on the following:

⁹ 18 CFR 382 (2015).

¹⁰ Id. at 382.102(d) (defining the “natural gas regulatory program” as the Commission's regulation of the natural gas industry under the Natural Gas Act; Natural Gas Policy Act of 1978; Alaska Natural Gas Transportation Act; Public Utility Regulatory Policies Act; Department of Energy Organization Act; Outer Continental Shelf Lands Act; Energy Security Act; Regulatory Flexibility Act; Crude Oil Windfall Profit Tax Act; National Environmental Policy Act; National Historic Preservation Act).

¹¹ For the purposes of this proceeding, we use the term natural gas pipeline company (Pipeline) as it is defined in 18 CFR 382.101(a) (2012): “any person: (1) Engaged in natural gas sales for resale or natural gas transportation subject to the jurisdiction of the Commission under the Natural Gas Act whose sales for resale and transportation exceed 200,000 Mcf at 14.73 psi (60ºF) in any of the three calendar years immediately preceding the fiscal year for which the Commission is assessing annual charges; and (2) Not engaged solely in “first sales” of natural gas as that term is defined in section 2(21) of the Natural Gas Policy Act of 1978; and (3) To whom the Commission has not issued a Natural Gas Act Section 7(f) declaration; and (4) Not holding a limited jurisdiction certificate.”

. . ..the proportion of the total gas subject to Commission regulation which was sold and transported by each company in the immediately preceding calendar year to the sum of the gas subject to the Commission regulation which was sold and transported in the immediately preceding calendar year by all natural gas pipeline companies being assessed annual charges.¹²

¹² 18 CFR 382.202 (2015).

Type of Respondent: Natural Gas Pipelines.

Estimate of Annual Burden: The Commission estimates the annual public reporting burden for the information collection as:

FERC-542 (Gas Pipeline Rates: Rate Tracking)
Number of respondents | Annual number of responses per respondent | Total number of responses | Average burden hours and cost per response | Total annual burden hours and total annual cost | Cost per respondent ($)
(1) | (2) | (1)*(2)=(3) | (4) | (3)*(4)=(5) | (5)÷(1)
5 | 1 | 5 | 2 | 10 | $144
|  |  | $144 | $720

Dated: December 14, 2015
Nathaniel J. Davis, Sr.,
Deputy Secretary.

[FR Doc. 2015-31970 Filed 12-18-15; 8:45 am]

BILLING CODE 6717-01-P